DEPARTMENT OF EDUCATION

Notice of Proposed Information Collection Requests

AGENCY: Department of Education.

ACTION: Correction notice.

SUMMARY: On December 19, 2006, the Department of Education published a notice in the Federal Register (Page 75952, Column 3) for the information collection, “Impact Evaluation of Upward Bound's Increased Focus on Higher-Risk Students—Baseline Data Collection Protocols”. This notice hereby corrects the number of responses to 10,890.

The Acting Leader, Information Policy and Standards Team, Regulatory Information Management Services, Office of Management, hereby issues a correction notice as required by the Paperwork Reduction Act of 1995.

Dated: December 28, 2006.
James Hyler,
Acting Leader, Information Policy and Standards Team, Regulatory Information Management Services, Office of Management.

[FR Doc. E6-22610 Filed 1-4-07; 8:45 am]

BILLING CODE 4000-01-P